SMALL BUSINESS ADMINISTRATION

[License No. 02/02-0699]

Oaktree SBIC Fund, L.P.; Notice Seeking Exemption Under Section 312 of the Small Business Investment Act, Conflicts of Interest

Notice is hereby given that Oaktree SBIC Fund, L.P., 1301 Avenue of the Americas, New York, NY 10019, a Federal Licensee under the Small Business Investment Act of 1958, as amended (“the Act”), in connection with the financing of three small concerns, has sought an exemption under Section 312 of the Act and Section 107.730, Financings which Constitute Conflicts of Interest of the Small Business Administration (“SBA”) Rules and Regulations (13 CFR 107.730). Oaktree SBIC Fund, L.P. proposes to provide financing in an acquisition that will benefit an Associate, Oaktree Mezzanine Fund IV, L.P.

The financing is brought within the purview of § 107.730(a)(4) of the Regulations because Oaktree SBIC Fund, L.P., will provide financing in a transaction to acquire a Small Business, Smart Care Equipment Solutions, 12539 S Holiday Drive, Alsip, IL 60803. This transaction is considered a conflict of interest requiring prior SBA approval because a portion of proceeds will be used to redeem outstanding debt held by an Associate of Oaktree SBIC Fund, L.P., Oaktree Mezzanine Fund IV, L.P.

Notice is hereby given that any interested person may submit written comments on the transaction, within fifteen days of the date of this publication, to the Associate Administrator for Investment, U.S. Small Business Administration, 409 Third Street SW, Washington, DC 20416.

Small Business Administration.
Bailey DeVries,
Associate Administrator, Office of Investment and Innovation.

[FR Doc. 2022-04234 Filed 2-28-22; 8:45 am]

BILLING CODE 8026-03-P